DEPARTMENT OF COMMERCE

International Trade Administration

(A-570-827)

Notice of Amended Final Results of Antidumping Duty Administrative Review: Certain Cased Pencils from the People's Republic of China

AGENCY: Import Administration, International Trade Administration, Department of Commerce.

SUMMARY: The Department of Commerce (the Department) published the final results and partial rescission of the administrative review of the antidumping duty order on certain cased pencils from the People's Republic of China covering the period of review (POR) December 1, 2003, through November 30, 2004, on July 6, 2006. See Certain Cased Pencils From the People's Republic of China; Final Results and Partial Rescission of Antidumping Duty Administrative Review, 71 FR 38366 (July 6, 2006) (Final Results). We are amending our final results to correct a ministerial error alleged by China First Pencil Co., Ltd./Shanghai Three Star Stationery Industry Corp. (CFP/Three Star) pursuant to section 751(h) of the Tariff Act of 1930, as amended (the Act).

EFFECTIVE DATE: August 8, 2006.

FOR FURTHER INFORMATION CONTACT: Paul Stolz or Charles Riggle, AD/CVD Operations, Office 8, Import Administration, International Trade Administration, U.S. Department of Commerce, 14th Street and Constitution Avenue, NW, Washington, DC 20230; telephone: (202) 482-4474 and (202) 482-0650, respectively.

SUPPLEMENTARY INFORMATION:

Scope of the Order

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

In addition, pencils with all of the following physical characteristics are excluded from the scope of the order: novelty jumbo pencils that are octagonal in shape, approximately ten inches long, one inch in diameter before sharpening, and three-and-one eighth inches in circumference, composed of turned wood encasing one-and-one half inches of sharpened lead on one end and a rubber eraser on the other end.

Although the HTSUS subheading is provided for convenience and customs purposes, our written description of the scope of the order is dispositive.

Amended Final Results

In accordance with section 751(a) the Act, on July 6, 2006, the Department published its final results and partial rescission of the administrative review of certain cased pencils from the People's Republic of China. See Final Results.

On July 10, 2006, CFP/Three Star submitted a ministerial error allegation with respect to the final results of administrative review. No other interested party submitted ministerial error allegations. No party submitted comments on the ministerial error allegation submitted by CFP/Three Star. In accordance with section 751(h) of the Act, we have determined that a ministerial error was made in the calculation of the final margin for CFP/Three Star. See Memorandum from Charles Riggle, Program Manager, AD/CVD Operations, Office 8, to Wendy J. Frankel, Director, AD/CVD Operations, Office 8: Antidumping Duty Administrative Review of Certain Cased Pencils from the People's Republic of China, Allegation of Ministerial Error (July 28, 2006). Pursuant to section 751(h) of the Act, we have corrected the error and are amending the final results of review accordingly. See Memorandum from Paul Stolz, Case Analyst through Charles Riggle, Program Manager, to the File, Analysis Memorandum for Amended Final Results for China First Pencil Co., Ltd./Shanghai Three Star Stationery Industry Corp. (July 28, 2006). The revised final weighted-average dumping margin is as follows:

Exporter/Manufacturer | Original Weighted-Average Margin Percentage | Amended Weighted-Average Margin Percentage
China First Pencil Co., Ltd./Shanghai Three Star Stationery Industry Corp. | 26.62 | 2.76

The Department shall determine, and CBP shall assess, antidumping duties on all appropriate entries based on the amended final results. For details on the assessment of antidumping duties on all appropriate entries, see Final Results. This notice is published pursuant to section 777(i) of the Act and 19 CFR 351.224(e).

July 28, 2006.
David M. Spooner,
Assistant Secretary for Import Administration.

[FR Doc. E6-12818 Filed 8-7-06; 8:45 am]

BILLING CODE 3510-DS-S